DEPARTMENT OF COMMERCE

International Trade Administration

[C-533-825]

Polyethylene Terephthalate Film, Sheet, and Strip From India: Preliminary Results and Partial Rescission of Countervailing Duty Administrative Review; 2018

AGENCY: Enforcement and Compliance, International Trade Administration, Department of Commerce.

SUMMARY: The Department of Commerce (Commerce) is conducting an administrative review of the countervailing duty (CVD) order on polyethylene terephthalate film, sheet, and strip (PET film) from India. Commerce preliminarily determines that Jindal Poly Films Ltd. (Jindal) received countervailable subsidies during the Period of Review. The period of review (POR) is January 1, 2018 through December 31, 2018. Interested parties are invited to comment on these preliminary results.

DATES: Applicable November 23, 2020.

FOR FURTHER INFORMATION CONTACT: Konrad Ptaszynski, AD/CVD Operations, Office I, Enforcement and Compliance, International Trade Administration, U.S. Department of Commerce, 1401 Constitution Avenue NW, Washington, DC 20230; telephone: (202) 482-6187.

SUPPLEMENTARY INFORMATION:

Background

On September 9, 2019, Commerce published a notice of initiation of an administrative review of the CVD order on PET Film from India.¹ On March 18, 2020, Commerce extended the deadline for the preliminary results of this review to no later than July 20, 2020.² On April 24, 2020, Commerce tolled all deadlines in administrative reviews by 50 days.³ On July 21, 2020, Commerce tolled all deadlines in administrative reviews by an additional 60 days.⁴ Accordingly, the deadline for the preliminary results of this review was postponed to November 17, 2020.

¹ See Initiation of Antidumping and Countervailing Duty Administrative Reviews, 84 FR 47242, 47251 (September 9, 2019) (Initiation Notice).

² See Memorandum, “Polyethylene Terephthalate Film, Sheet, and Strip from India: Extension of Deadline for Preliminary Results of Countervailing Duty Administrative Review; 2018,” dated March 18, 2020.

³ See Memorandum, “Tolling of Deadlines for Antidumping and Countervailing Duty Administrative Reviews in Response to Operational Adjustments Due to COVID-19,” dated April 24, 2020.

⁴ See Memorandum, “Tolling of Deadlines for Antidumping and Countervailing Duty Administrative Reviews,” dated July 21, 2020.

For a complete description of the events that followed the initiation of this review, see the Preliminary Decision Memorandum.⁵ A list of topics discussed in the Preliminary Decision Memorandum is included at the appendix to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at http://enforcement.trade.gov/frn/. The signed and electronic versions of the Preliminary Decision Memorandum are identical in content.

⁵ See Memorandum, “Decision Memorandum for the Preliminary Results of the Countervailing Duty Administrative Review; 2018: Polyethylene Terephthalate Film, Sheet, and Strip from India,” dated concurrently with, and hereby adopted by, this notice (Preliminary Decision Memorandum).

Scope of the Order

The products covered by this order are all gauges of raw, pretreated, or primed polyethylene terephthalate film, sheet and strip, whether extruded or coextruded. Excluded are metallized films and other finished films that have had at least one of their surfaces modified by the application of a performance-enhancing resinous or inorganic layer of more than 0.00001 inches thick. For a complete description of the scope of the Order, see the Preliminary Decision Memorandum.⁶

⁶ Id.

Partial Rescission of Administrative Review

Commerce initiated a review of eight companies in this segment of the proceeding.⁷ In response to timely filed withdrawal requests, we are rescinding this administrative review with respect to Ester, Garware, MTZ, Polyplex, SRF, Uflex, and Vacmet, pursuant to 19 CFR 351.213(d)(1). Accordingly, the only company subject to the instant review is Jindal.

⁷ See Initiation Notice, 84 FR 47242, 47251 (September 9, 2019). The eight companies were Ester Industries Limited.; Garware Polyester Ltd.; Jindal Poly Films Limited.; MTZ Polyesters Ltd.; Polyplex Corporation Ltd.; SRF Limited.; Uflex Ltd.; Vacmet India Limited.

Methodology

Commerce is conducting this administrative review in accordance with section 751(a)(1)(A) of the Tariff Act of 1930, as amended (the Act). For each of the subsidy programs found to be countervailable, we preliminarily find that there is a subsidy, i.e., a financial contribution by an “authority” that gives rise to a benefit to the recipient, and that the subsidy is specific.⁸ For a full description of the methodology underlying our conclusions, see the Preliminary Decision Memorandum.

⁸ See sections 771(5)(B) and (D) of the Act regarding financial contribution; section 771(5)(E) of the Act regarding benefit; and, section 771(5A) of the Act regarding specificity.

Preliminary Results of Review

We preliminarily determine the following net countervailable subsidy rate for the mandatory respondent, Jindal, for the period January 1, 2018 through December 31, 2018:

Manufacturer/exporter | Subsidy rate (percent ad valorem)
Jindal Poly Films Limited | 11.65

Assessment Rates

Consistent with section 751(a)(1) of the Act and 19 CFR 351.212(b)(2), upon issuance of the final results, Commerce will determine, and U.S. Customs and Border Protection (CBP) shall assess, countervailing duties on all appropriate entries covered by this review. We intend to issue instructions to CBP 15 days after publication of the final results of this review. For the companies for which this review is rescinded, Commerce will instruct CBP to assess countervailing duties on all appropriate entries at a rate equal to the cash deposit of estimated countervailing duties required at the time of entry, or withdrawal from warehouse, for consumption, during the period January 1, 2018 through December 31, 2018, in accordance with 19 CFR 351.212(c)(1)(i). Commerce intends to issue appropriate assessment instructions directly to CBP 15 days after publication of this notice.

Cash Deposit Requirements

In accordance with section 751(a)(2)(C) of the Act, Commerce also intends to instruct CBP to collect cash deposits of estimated countervailing duties in the amount shown above for Jindal, with regard to shipments of subject merchandise entered, or withdrawn from warehouse, for consumption on or after the date of publication of the final results of this review. For all non-reviewed firms, we will instruct CBP to continue to collect cash deposits at the most recent company specific or all-others rate applicable to the company. These cash deposit requirements, when imposed, shall remain in effect until further notice.

Disclosure and Public Comment

We will disclose to parties in this review the calculations performed in reaching the preliminary results within five days of publication of these preliminary results.⁹ Interested parties may submit written comments (case briefs) on the preliminary results no later than 30 days from the date of publication of this Federal Register notice, and rebuttal comments (rebuttal briefs) within five days after the time limit for filing case briefs.¹⁰ Pursuant to 19 CFR 351.309(d)(2), rebuttal briefs must be limited to issues raised in the case briefs. Parties who submit arguments are requested to submit with the argument: (1) A statement of the issue; (2) a brief summary of the argument; and (3) a table of authorities.¹¹ All briefs must be filed electronically using ACCESS.

⁹ See 19 CFR 351.224(b).

¹⁰ See 19 CFR 351.309(c)(1)(ii); 351.309(d)(1); and 19 CFR 351.303 (for general filing requirements).

¹¹ See 19 CFR 351.309(c)(2) and (d)(2).

Pursuant to 19 CFR 351.310(c), interested parties who wish to request a hearing must submit a written request to the Assistant Secretary for Enforcement and Compliance, filed electronically via ACCESS by 5 p.m. Eastern Time within 30 days after the date of publication of this notice.¹² Hearing requests should contain: (1) The party's name, address, and telephone number; (2) the number of participants; and (3) a list of the issues to be discussed. Issues addressed at the hearing will be limited to those raised in the briefs. If a request for a hearing is made, Commerce intends to hold the hearing at a date and time to be determined.¹³

¹² See 19 CFR 351.310(c).

¹³ See 19 CFR 351.310(c).

An electronically-filed document must be received successfully in its entirety by ACCESS by 5:00 p.m. Eastern Time on the established deadline. Note that Commerce has temporarily modified certain of its requirements for serving documents containing business proprietary information, until further notice.¹⁴ Parties are reminded that briefs and hearing requests are to be filed electronically using ACCESS and that electronically filed documents must be received successfully in their entirety by 5 p.m. Eastern Time on the due date. Note that Commerce has temporarily modified certain of its requirements for serving documents containing business proprietary information, until further notice.¹⁵

¹⁴ See Temporary Rule Modifying AD/CVD Service Requirements Due to COVID-19; Extension of Effective Period, 85 FR 41363 (July 10, 2020).

¹⁵ Id.

Commerce intends to issue the final results of this administrative review, including the results of our analysis of the issues raised by the parties in their comments, no later than 120 days after the date of publication of this notice, pursuant to section 751(a)(3)(A) of the Act and 19 CFR 351.213(h), unless this deadline is extended.

Notification to Interested Parties

These preliminary results and notice are issued and published in accordance with sections 751(a)(1) and 777(i)(1) of the Act, and 19 CFR 351.221(b)(4).

Dated: November 17, 2020.
Joseph A. Laroski Jr.,
Deputy Assistant Secretary for Policy and Negotiations.

Appendix

List of Topics Discussed in the Preliminary Decision Memorandum

I. Summary

II. Background

III. Partial Rescission of Administrative Review

IV. Scope of the Order

V. Subsidies Valuation Information

VI. Use of Facts Otherwise Available and Adverse Inferences

VII. Analysis of Programs

VIII. Recommendation

[FR Doc. 2020-25858 Filed 11-20-20; 8:45 am]

BILLING CODE 3510-DS-P